DEPARTMENT OF THE INTERIOR

Office of the Secretary

43 CFR Part 4

RIN 1090-AA75

Summary Distribution

AGENCY: Office of Hearings and Appeals, Office of the Secretary, Interior.

ACTION: Technical amendment.

SUMMARY: The Office of Hearings and Appeals (OHA) today is making a technical change to its rules regarding summary distribution of decedents estates as published on August 24, 1999, (64 FR 46152). Under the existing regulations, Bureau of Indian Affairs (BIA) Superintendents are identified as the authority to make summary distributions when an Indian dies intestate leaving only trust personal property or cash valued at less than $5,000. The appeals procedure for OHA acknowledges appeals from summary distribution decisions made by BIA superintendents. The technical change now refers only to “the Bureau of Indian Affairs” as the authority for making summary distribution decisions (and against whom an aggrieved party may appeal to OHA), recognizing the authority of the BIA to designate the superintendent, or other officials as may be appropriate, to make such summary distribution decisions.

EFFECTIVE DATE: May 2, 2000.

FOR FURTHER INFORMATION CONTACT: Charles E. Breece, Deputy Director, Office of Hearings and Appeals, U.S. Department of the Interior, 4015 Wilson Boulevard, Arlington, Virginia 22203. Telephone: 703/235-3810.

SUPPLEMENTARY INFORMATION: This technical amendment is being published pursuant to the revised High Level Implementation Plan (HLIP) filed with the U.S. District Court for the District of Columbia in connection with the Cobell v. Babbitt case. Among other representations in the HLIP, the Department of the Interior has committed to making a technical amendment to the summary distribution regulations at 43 CFR 4.271. The Department has further committed to promulgate this technical amendment by April 30, 2000. The technical amendments to sections 4.271 and 4.320 of 43 CFR do not impact the substance of the regulations but increase the flexibility of the Department to direct resources as appropriate to the caseload of pending summary distribution cases. Consequently, the technical amendment acknowledges the authority of the BIA to delegate its authority to make such summary distribution decision to other BIA officials as deemed qualified to perform this function. Pursuant to 5 U.S.C. 553(b), public comment is not required for this technical amendment as this amendment does not make any substantive regulatory change and simply promotes administrative efficiency. Pursuant to 5 U.S.C. 553(d), the rulemaking will take effect immediately for good cause as the caseload of the BIA for summary distribution of Indian decedents' estates and the HLIP require, as may be appropriate, the delegation of certain other qualified officials of the BIA other than its agency superintendents.

List of Subjects in 43 CFR Part 4

Administrative practice and procedure, Claims, Indians, Public lands.

PART 4—[AMENDED]

1. The authority citation for Part 4 continues to read as follows:

Authority: R.S. 2478, as amended, 43 U.S.C. sec. 1201, unless otherwise noted.

2. Section 4.271 is revised to read as follows:

§ 4.271 Summary distribution.

When an Indian dies intestate leaving only trust personal property or cash of a value of less than $5,000, not including any interest that may have accrued after the death of the decedent, the Bureau of Indian Affairs will assemble the apparent heirs and hold an informal hearing to determine the proper distribution of the estate, unless it appears that the decedent left a last will and testament intending to devise his estate, and/or the decedent dies possessed of an interest in trust or restricted real property. A memorandum covering the hearing will be retained in the agency files showing the date of the decedent's death, the date of the hearing, the persons notified and attending the hearing, the amount on hand, and its disposition. In the disposition of such funds, the Bureau of Indian Affairs will credit the balance, if any, to the legal heirs. When requested by the Bureau of Indian Affairs, an administrative law judge may assume jurisdiction to dispose of creditors' claims or to make distribution determinations if the administrative law judge finds that exceptional circumstances exist. A party in interest may appeal a distribution determination in accordance with 43 CFR 4.320.

3. Section 4.320 is amended by revising the introductory text to read as follows:

§ 4.320 Who may appeal.

A party in interest has a right to appeal to the Board of Indian Appeals from an order from an administrative law judge on a petition for rehearing, petition for reopening, or regarding tribal purchase of interests in a deceased Indian's trust estate, and also from a summary distribution order made by the Bureau of Indian Affairs or an administrative law judge pursuant to § 4.271.

* * * * *

Dated: April 26, 2000.
John Berry,
Assistant Secretary, Policy, Management and Budget.

[FR Doc. 00-10869 Filed 5-1-00; 8:45 am]

BILLING CODE 4310-RK-M